SURFACE TRANSPORTATION BOARD

[Docket No. AB 1313]

North Coast Railroad Authority—Adverse Discontinuance of Lease & Operating Authority—Northwestern Pacific Railway Co., In Humboldt, Trinity and Mendocino Counties, Cal.

By petition filed on March 9, 2021, the North Coast Railroad Authority (NCRA), an agency of the State of California, seeks exemptions from certain statutory provisions and waivers of certain regulatory requirements regarding the filing of a third-party, or “adverse,” application for discontinuance. Specifically, NCRA states that it intends to ask the Board to terminate the operating rights of Northwestern Pacific Railway Company over an NCRA rail line extending from milepost 142.5, at Outlet Station, to the end of the line at milepost 302.86, at Fairhaven, on the Samoa Branch, including the Korblex/Korbel Branch ¹ and the Carlotta Branch in Mendocino, Trinity, and Humboldt Counties, Cal.² (Pet. 2, 11.)

¹ In a separate docket, NCRA filed a verified notice of exemption to abandon 175.84 miles of rail line from milepost 139.5 at Commercial Street in Willits, to milepost 284.1 near Eureka, including appurtenant branch lines extending to milepost 267.72 near Carlotta, milepost 295.57 near Korblex, milepost 300.5 near Samoa, and milepost 301.8 near Korbel. (See NCRA Verified Notice 1, N. Coast R.R.—Aban. Exemption—in Mendocino, Trinity & Humboldt Cntys., Cal., AB 1305X.)

² On April 22, 2021, the Timber Heritage Association filed a notice of intent to participate with comments partially opposing NCRA's petition, to which NCRA replied on April 30, 2021.

A proceeding will be instituted to determine the merits of the petition for exemptions and waivers pursuant to 49 U.S.C. 10502(b).

It is ordered:

1. A proceeding is instituted under 49 U.S.C. 10502(b).

2. Notice of this decision will be published in the Federal Register.

3. This decision is effective on its service date.

Decided: June 7, 2021.
By the Board, Scott M. Zimmerman, Acting Director, Office of Proceedings.
Brendetta Jones,
Clearance Clerk.

[FR Doc. 2021-12309 Filed 6-10-21; 8:45 am]

BILLING CODE 4915-01-P